NATIONAL SCIENCE FOUNDATION

Notice of Permit Applications Received Under the Antarctic Conservation Act of 1978 (Pub. L. 95-541)

AGENCY: National Science Foundation.

ACTION: Notice of permit applications received under the Antarctic Conservation Act of 1978, Public Law 95-541.

SUMMARY: The National Science Foundation (NSF) is required to publish notice of permit applications received to conduct activities regulated under the Antarctic Conservation Act of 1978, NSF has published regulations under the Antarctic Conservation Act at Title 45 Part 670 of the Code of Federal Regulations. This is the required notice of permit applications received.

DATES: Interested parties are invited to submit written data, comments, or views with respect to this permit application by October 29, 2003. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

Permit Application No. 2004-005

1. Applicant: Howard Evans, Professor of Veterinary and Comparative Anatomy, Emeritus, College of Veterinary Medicine, Cornell University, Ithaca, NY 14853-6401.

Activity for Which Permit is Requested: Take and Import into the United States. The applicant proposes to salvage dead specimens of penguins and other seabirds, as well as parts of marine mammals, to be used for educational purposes in his lectures. The applicant will be a lecturer on board a cruise ship visiting the Antarctic Peninsula and may have the opportunity to encounter bird and animal carcasses or parts. Collected items will be imported into the United States and become part of the university collection.

Location: Antarctic Peninsula region.

Dates: December 30, 2003 to January 25, 2004.

Nadene G. Kennedy,
Permit Officer, Office of Polar Programs.

[FR Doc. 03-24533 Filed 9-26-03; 8:45 am]

BILLING CODE 7555-01-M